DEPARTMENT OF ENERGY

Federal Energy Regulatory Commission

[Project No. 11426-000]

T.A. Keck III and H.S. Keck.; Notice of Termination of License (Minor Project) by Implied Surrender and Soliciting Comments, Protests, and Motions to Intervene

Take notice that the following hydroelectric proceeding has been initiated by the Commission:

a. Type of Proceeding: Termination of License by Implied Surrender (Minor Project).

b. Project No.: 11426-000.

c. Date Initiated: June 21, 2024.

d. Licensee: T.A. Keck II and H.S. Keck.

e. Name of Project and Location of Project: The Blackstone Mill Hydroelectric Project is located on East Mahantango Creek, a tributary of the Susquehanna River, near the town of Pillow, in Dauphin County, Pennsylvania. The project does not include federal lands.

f. Filed Pursuant to: Standard Article 16.

g. Licensee Contact Information: Mr. Theodore Keck III, Blackstone Mill, P.O. Box 98, Pillow, PA 17080, email: admin@blackstonemill.com.

h. FERC Contact: Jennifer Polardino, (202) 502-6437, jennifer.polardino@ferc.gov.

i. Resource Agency Comments: Federal, state, local and Tribal agencies are invited to file comments on the proceeding. If any agency does not file comments within the time specified for filing comments, it would be presumed to have no comments.

j. Deadline for filing comments, motions to intervene and protests: July 22, 2024.

The Commission strongly encourages electronic filing. Please file motions to intervene, protests, and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-11426-000. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Project Facilities: (1) an existing 102-foot-long dam about 2.5 feet high; (2) an existing reservoir with a surface area of about 3 acres and a total volume approximately 7-acre-feet at the normal surface elevation of approximately 470 feet mean sea level; (3) an existing headrace or power canal approximately 3,200 feet long by 20 feet wide by 5 feet deep; (4) an existing stone-masonry powerhouse containing two generating units rated at 50 kilowatts (50 kW) and 15 kW for a total installed capacity of 65 kW; (5) an overhead 240-volt transmission line about 60 feet long; and (6) appurtenant facilities.

l. Description of Proceeding: Standard Article 16 of the license states in part: If the licensee shall abandon or discontinue good faith operation of the project, or refuse to comply with the terms of the license and the lawful orders of the Commission mailed to the record of address of the licensee or its agent, the Commission will deem it to be intent of the licensee to surrender the license.

The current license expired on October 31, 2023, and since the licensee did not file a notice of intent to file an application for a subsequent license on November 6, 2018, the Commission issued a notice soliciting, from any interested party, a notice of intent to file a license application and pre-application document for the project. The project received no response to the notice. By letters dated May 14, 2019, August 2, 2019, September 14, 2023, and December 14, 2023, Commission staff requested the licensee to file their plan and schedule for a license surrender. The licensee did not file the requested information. On April 17, 2024, Commission staff sent a letter notifying the licensee that the Commission will open a proceeding to terminate their license by implied surrender.

m. This filing may be viewed on the Commission's website at http://www.ferc.gov/docs-filing/elibrary.asp. Enter the docket number excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, and .214, respectively. In determining the appropriate action to take, the Commission will consider all protests or other comments filed, but only those who file a motion to intervene in accordance with the Commission's Rules may become a party to the proceeding. Any comments, protests, or motions to intervene must be received on or before the specified comment date for the application.

p. Filing and Service of Responsive Documents: Any filing must (1) bear in all capital letters the title “COMMENTS,” “PROTEST,” or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests m(June 21, 2024ust set forth their evidentiary basis. Any filing made by an intervenor must be prepared by the Commission in this proceeding, in accordance with 18 CFR 385.2010.

q. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 21, 2024.
Debbie-Anne A. Reese,
Acting Secretary.

[FR Doc. 2024-14128 Filed 6-26-24; 8:45 am]

BILLING CODE 6717-01-P